DEPARTMENT OF VETERANS AFFAIRS

Solicitation of Nominations for Appointment to the Advisory Committee on Homeless Veterans

AGENCY: Department of Veterans Affairs.

ACTION: Notice of solicitation for nominations.

SUMMARY: The Department of Veterans Affairs (VA) is seeking nominations of qualified candidates to be considered for appointment to the Advisory Committee on Homeless Veterans (ACHV) (hereinafter in this section referred to as “ACHV or the Committee”).

DATES: Nominations for membership on the Committee must be received no later than 5 p.m. EST on June 27, 2024.

ADDRESSES: All nominations should be emailed to ACHV@va.gov. Please write Nomination for ACHV Membership in the subject line.

FOR FURTHER INFORMATION CONTACT: Anthony Love, Designated Federal Officer, ACHV; VHA Homeless Programs Office at ACHV@va.gov or 202-461-1902. A copy of the Committee charter and list of the current membership can also be obtained by visiting the ACHV website.

SUPPLEMENTARY INFORMATION: In carrying out the duties set forth, the Committee responsibilities include, but are not limited to:

(1) Advising the Secretary and Congress on VA's benefits and services provided to homeless Veterans by VA.

(2) Providing advice to the Secretary and making recommendations on improved services for homeless Veterans.

Authority: The Committee carries out the duties set forth in 38 U.S.C. 2066 to operate under the provisions of the Federal Advisory Committee Act, as amended 5 U.S.C. ch. 10. Section 306 of Public Law 117-180 extended the Committee's statutory authority to September 30, 2026.

Membership Criteria and Qualifications: The Veterans Health Administration (VHA) is requesting nominations for upcoming vacancies on the Committee. The Committee is comprised of not more than 15 members. Several members may be regular Government employees, but the majority of the Committee's membership shall consist of non-Federal employees, appointed by the Secretary from the general public, serving as Special Government employees.

As required by statute, the members of the Committee are appointed by the Secretary from the general public and the Secretary shall determine the terms of service, including but is not limited to:

(1) Veterans Service Organizations.

(2) Advocates of homeless Veterans and other homeless individuals.

(3) Community-based providers of services to homeless individuals.

(4) Previously homeless Veterans.

(5) State VA Officials.

(6) Experts in the treatment of individuals with mental illness.

(7) Experts in the treatment of substance use disorders.

(8) Experts in the development/management of permanent housing alternatives for lower income populations.

(9) Experts in vocational rehabilitation.

(10) Other organizations or groups as the Secretary considers appropriate.

(11) Experts with program or policy experience in homelessness (not required, but may be expertise that the Secretary considers appropriate).

Membership Requirements: The Committee meets at least twice annually (e.g., April and September). Individuals selected for appointment to the Committee shall be invited to serve a two-to-three-year term. The Secretary may reappoint Committee members for an additional term of service. Committee members will receive per diem and reimbursement for eligible travel expenses incurred. Completed nomination submission packages from self-nominations and other nominations will be accepted. Any letters of nomination from organizations or other individuals should accompany the package when it is submitted.

To the extent possible, the Secretary seeks members who have diverse professional and personal qualifications including but not limited to subject matter experts in the areas described above. We ask that nominations include any relevant experience information so that VA can ensure diverse Committee membership.

Requirements for Nomination Submission Packages: Nominations should be type written (12-point font) and legibly scanned copies. Nomination package should include:

(1) A letter of nomination that clearly states the name and affiliation of the nominee, the basis for the nomination (i.e., specific attributes which qualify the nominee for service in this capacity), and a statement from the nominee indicating that he/she is a U.S. citizen and is willing to serve as a member of the Committee.

(2) The nominee's contact information, including name, mailing address, telephone number, and email address.

(3) The nominee's resume or curriculum vitae that is no more than three pages in length.

(4) The resume should show professional work experience, and Veterans service involvement.

(5) A one-page cover letter. The cover letter must summarize:

a. the nominee's interest in serving on the committee and contributions he/she can make to the work of the committee.

b. any relevant Veterans service activities she/he is currently engaged in;

c. the military branch affiliations and timeframe of military service (if applicable);

d. information about the nominee's personal and professional qualifications and background that would give him/her a diverse perspective on Veterans' matters; and

e. a statement confirming that he/she is not a Federally registered lobbyist.

The Department makes every effort to ensure that the membership of VA Federal Advisory Committees are diverse in terms of points of view represented and the Committee's capabilities. Appointments to this Committee shall be made without discrimination because of a person's race, color, religion, sex, sexual orientation, gender identity, national origin, age, disability, or genetic information. Nomination package must state that the nominee is willing to serve as a member of the Committee and appears to have no conflict of interest that would preclude membership. The Committee is authorized by statue, 38 U.S.C. 2066, to operate under the provisions of the Federal Advisory Committee Act, as amended 5 U.S.C. ch.10. Section 306 of Public Law 117-180 extended the Committee's statutory authority to September 30, 2026.

Date: May 13, 2024.
Jelessa M. Burney,
Federal Advisory Committee Management Officer.

[FR Doc. 2024-10786 Filed 5-15-24; 8:45 am]

BILLING CODE P